DEPARTMENT OF HEALTH AND HUMAN SERVICES

Centers for Disease Control and Prevention

Board of Scientific Counselors, National Center for Health Statistics (BSC, NCHS)

AGENCY: Centers for Disease Control and Prevention (CDC), Department of Health and Human Services (HHS).

ACTION: Notice of meeting.

SUMMARY: In accordance with the Federal Advisory Committee Act, the Centers for Disease Control and Prevention (CDC), announces the following meeting for the Board of Scientific Counselors, National Center for Health Statistics (BSC, NCHS). This meeting is open to the public.

DATES: The meeting will be held on January 22, 2019, 11:00 a.m. to 2:00 p.m., EDT.

ADDRESSES: Virtual—Summaries of meetings and a roster of Committee members are available on the NCHS BSC website: https://www.cdc.gov/nchs/about/bsc.htm.

FOR FURTHER INFORMATION CONTACT: Sayeedha Uddin, M.D., M.P.H., Executive Secretary, NCHS/CDC, Board of Scientific Counselors, 3311 Toledo Road, Room 2627, Hyattsville, Maryland 20782, telephone (301) 458-4303, email isx9@cdc.gov.

SUPPLEMENTARY INFORMATION: To join the session go to https://roseliassociates.webex.com/roseliassociates/k2/j.php?MTID=tfdddad42079860e7fedf3935962fd22f.

2. Enter your name and email address (or registration ID).

3. Enter the session password: Jan22.

4. Click “Join Now”.

5. Follow the instructions that appear on your screen.

To join the session by phone only call the number below and enter the access code.

United States Toll Free: 1-844-621-3956.

United States Toll (San Jose): +1-240-454-0887.

Global call-in numbers: https://roseliassociates.webex.com/roseliassociates/globalcallin.php?serviceType=TC&ED=753000972&tollFree=1.

Show toll-free dialing restrictions: https://www.webex.com/pdf/tollfree_restrictions.pdf.

Access code: 647 874 925.

For assistance you can contact Michele Dillon at: michele.dillon@roseliassociates.com, 1-301-412-0987.

Can't join the training session? https://collaborationhelp.cisco.com/article/qg8vzfb.

To update this session to your calendar program (for example Microsoft Outlook), click this link: https://roseliassociates.webex.com/roseliassociates/k2/j.php?MTID=t1946c9546eabdef918f44ebc6b656537.

https://www.webex.com.

Purpose: This committee is charged with providing advice and making recommendations to the Secretary, Department of Health and Human Services; the Director, CDC; and the Director, NCHS, regarding the scientific and technical program goals and objectives, strategies, and priorities of NCHS.

Matters to be considered: The agenda will include remarks by NCHS leadership; presentation and discussion of the Patient-Centered Outcomes Research Trust Fund Drug Workgroup report. Agenda items are subject to change as priorities dictate. The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-27719 Filed 12-20-18; 8:45 am]

BILLING CODE 4163-19-P